FEDERAL COMMUNICATIONS COMMISSION

47 CFR Chapter I

[MB Docket No. 14-127; DA 14-1149]

Petition for Rulemaking; Campaign Legal Center, Common Cause, and the Sunlight Foundation Seeking Expansion of Online Public File Obligations

AGENCY: Federal Communications Commission.

ACTION: Notice of petition for rulemaking; solicitation of comments.

SUMMARY: The Media Bureau solicits public comment on a Petition for Rulemaking requesting that the FCC initiate a rulemaking to expand to cable and satellite the requirement that public and political files be posted to the FCC's online database. The Media Bureau also seeks comment on expanding public file obligations to radio licensees.

DATES: Comments may be filed on or before August 28, 2014, and reply comments may be filed on or before September 8, 2014.

ADDRESSES: You may submit comments, identified by MB Docket No. 14-127, by any of the following methods:

• Federal eRulemaking Portal: http://www.regulations.gov. Follow the instructions for submitting comments.

• Federal Communications Commission's Web site: http://fjallfoss.fcc.gov/ecfs2/. Follow the instructions for submitting comments.

• Mail: Filings can be sent by hand or messenger delivery, by commercial overnight courier, or by first-class or overnight U.S. Postal Service mail. All filings must be addressed to the Commission's Secretary, Office of the Secretary, Federal Communications Commission.

• People With Disabilities: Contact the FCC to request reasonable accommodations (accessible format documents, sign language interpreters, CART, etc.) by email: FCC504@fcc.gov or phone: (202) 418-0530 or TTY: (202) 418-0432.

For detailed instructions for submitting comments and additional information on the rulemaking process, see the SUPPLEMENTARY INFORMATION section of this document.

FOR FURTHER INFORMATION CONTACT: Kim Matthews, Media Bureau, Policy Division, 202-418-2154, or email at kim.matthews@fcc.gov.

SUPPLEMENTARY INFORMATION: This is a summary of the Media Bureau's document in MB Docket No. 14-127, DA 14-1149, released on August 7, 2014. The full text of this document is available for public inspection and copying during regular business hours in the FCC Reference Center, Federal Communications Commission, 445 12th Street SW., Room CY-A257, Washington, DC 20554. The complete text may be purchased from the Commission's copy contractor, 445 12th Street SW., Room CY-B402, Washington, DC 20554. This document will also be available via ECFS at http://fjallfoss.fcc.gov/ecfs/. Documents will be available electronically in ASCII, Microsoft Word, and/or Adobe Acrobat. Alternative formats are available for people with disabilities (Braille, large print, electronic files, audio format) by sending an email to fcc504@fcc.gov or calling the Commission's Consumer and Governmental Affairs Bureau at (202) 418-0530 (voice), (202) 418-0432 (TTY).

Summary

The Campaign Legal Center, Common Cause and the Sunlight Foundation filed a Petition for Rulemaking requesting that the Federal Communications Commission (Commission) “initiate a rulemaking to expand to cable and satellite systems the requirement that public and political files be posted to the FCC's online database.” ¹

¹ The Campaign Legal Center, Common Cause and the Sunlight Foundation Petition for Rulemaking, filed July 31, 2014 at 1.

When it adopted the online public file rules, the Commission decided to limit initial implementation to broadcast television stations, specifically declining to require radio, cable systems or other multichannel video programming distributors to post public file documents to the FCC's online database at that time.² The Commission explained that there was an insufficient record to extend the requirement beyond broadcast television, and that starting with television licensees would “ease the initial implementation of the online public file.” ³

² Standardized and Enhanced Disclosure Requirements for Television Broadcast Licensee Public Interest Obligations, 27 FCC Rcd 4535, 4585-86 (2012) (“Online File Order”).

³ Id. at 4586.

The online public file launched on August 2, 2012. In the intervening two years, over half a million items have been successfully uploaded into the online file, and the site has generated nearly five million page views. Despite initial concerns, NAB has characterized the first wave of implementation as “uneventful.” ⁴ As of July 1, 2014, all television broadcast stations have fully transitioned to the online file.

⁴ NAB Comments at 3, Standardized and Enhanced Disclosure Requirements for Television Broadcast Licensee Public Interest Obligations, MM Docket 00-168, filed Aug. 26, 2013.

With this transition complete, we seek comment on the above-mentioned petition. We also seek comment on whether the Commission should initiate a rulemaking proceeding to require broadcast radio stations to use the online public file, and on an appropriate time frame for such a requirement.⁵

⁵ In the Online File Order, the Commission delegated to Commission staff the authority to allow radio stations to voluntarily post their public files in the online database “at such time as staff determines that such an option is feasible and desirable. . . .” Online File Order at 4586. Commission staff is analyzing the budget and technical issues that are involved in allowing radio licensees to upload documents to the online public file voluntarily.

This proceeding will be treated as “permit but disclose” for purposes of the Commission's ex parte rules. See generally 47 CFR 1.1200-1.1216. As a result of the permit-but-disclose status of this proceeding, ex parte presentations will be governed by the procedures set forth in Section 1.1206 (47 CFR 1.1206) of the Commission's rules applicable to non-restricted proceedings.⁶

⁶ 47 CFR 1.1206.

Given that all comments will be posted to the Commission's Electronic Comment Filing System (ECFS), we hereby waive the requirement that parties be served copies of the comments and reply comments in this proceeding,⁷ pursuant to Section 1.3 of the Commissions rules.⁸

⁷ 47 CFR 1.405.

⁸ 47 CFR 1.3.

Interested parties may file comments on or before August 28, 2014 and reply comments on or before September 8, 2014. All filings must reference MB Docket No. 14-127. In order to be considered part of the official record, comments must be filed using: (1) ECFS, (2) the Federal Government's eRulemaking Portal, or (3) by filing paper copies.⁹ Comments sent via email to the Commission that do not use the ECFS form described below will be considered informal and will not be part of the official record.

⁹ See Electronic Filing of Documents in Rulemaking Proceedings, GC Docket No. 97-113, Report and Order, 13 FCC Rcd 11322, 11326, para. 8 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, in completing the transmittal screen, filers should include their full name, U.S. Postal service mailing address, and the applicable docket number: MB Docket No. 14-127. Parties may also submit an electronic comment by Internet email. To get filing instructions, filers should send an email to ecfs@fcc.gov, and include the following words in the body of the message: “get form”. A sample form and instructions will be sent in response.

• Paper Filers: Parties who choose to file by paper must file an original and four copies of each filing. Filings can be sent by hand or messenger delivery, by commercial overnight courier, or by first-class or overnight U.S. Postal Service mail (although we continue to experience delays in receiving U.S. Postal Service mail). All filings must be addressed to the Commission's Secretary, Marlene H. Dortch, Office of the Secretary, Federal Communications Commission.

• All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8 a.m. to 7 p.m.

• Commercial overnight mail (other than U.S. Postal Service Express Mail and Priority Mail) must be sent to 9300 East Hampton Drive, Capitol Heights, MD 20743.

• U.S. Postal Service first-class mail, Express Mail, and Priority Mail must be addressed to 445 12th Street SW., Washington, DC 20554.

Copies of all filings will be available in MB Docket No. 14-127 through ECFS and are also available for public inspection and copying during regular business hours at the FCC Reference Information Center, Portals II, 445 12th St. SW., Room CY-A257, Washington, DC 20554, telephone (202) 418-0270. They may also be purchased from the Commission's duplicating contractor, Best Copy and Printing, Inc., Portals II, 445 12th St. SW., Room CY-B402, Washington, DC 20554, telephone (202) 488-5300, facsimile (202) 488-5563, or via email at fcc@bcpiweb.com.

Alternate formats of this Public Notice (computer diskette, large print, audio recording, or Braille) are available to persons with disabilities by contacting the Consumer and Governmental Affairs Bureau at (202) 418-0530 or (202) 418-0432 (TTY).

Federal Communications Commission.
Thomas Horan,
Chief of Staff, Media Bureau.

[FR Doc. 2014-20518 Filed 8-26-14; 8:45 am]

BILLING CODE 6712-01-P